OFFICE OF PERSONNEL MANAGEMENT

Excepted Service

AGENCY: Office of Personnel Management (OPM).

ACTION: Notice.

SUMMARY: This notice identifies Schedule A, B, and C appointing authorities applicable to a single agency that were established or revoked from May 1, 2021 to May 31, 2021.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during May 2021.

Schedule B

No Schedule B Authorities to report during May 2021.

Schedule C

The following Schedule C appointing authorities were approved during May 2021.

Agency name | Organization name | Position title | Authorization No. | Effective date
DEPARTMENT OF AGRICULTURE | Office of the Assistant Secretary for Congressional Relations | Legislative Advisor | DA210105 | 05/03/2021
| Natural Resources Conservation Service | Chief of Staff Senior Advisor | DA210108 DA210114 | 05/06/2021 05/27/2021
| Office of the Chief Information Officer | Senior Advisor for Data and Technology | DA210112 | 05/14/2021
| Office of the Deputy Secretary | Special Assistant | DA210109 | 05/06/2021
| Office of the Secretary | Deputy Director of Scheduling and Advance | DA210110 | 05/06/2021
|  | Advance Lead | DA210113 | 05/27/2021
DEPARTMENT OF COMMERCE | Minority Business Development Agency | Senior Advisor | DC210130 | 05/20/2021
| Office of Policy and Strategic Planning | Special Assistant | DC210114 | 05/06/2021
| Office of the Assistant Secretary for Economic Development | Special Advisor | DC210113 | 05/06/2021
| Office of the Chief of Staff | Senior Advisor (2) | DC210117 | 05/06/2021
|  |  | DC210129 | 05/20/2021
| Office of the Secretary | Special Assistant | DC210115 | 05/20/2021
| Office of White House Liaison | Special Assistant | DC210128 | 05/20/2021
CONSUMER PRODUCT SAFETY COMMISSION | Office of Commissioners | Special Assistant (Legal) | PS210001 | 05/17/2021
DEPARTMENT OF DEFENSE | Office of the Secretary of Defense | Special Assistant | DD210201 | 05/11/2021
| Office of the Under Secretary of Defense (Personnel and Readiness) | Special Assistant | DD210185 | 05/27/2021
| Office of the Under Secretary of Defense (Policy) | Special Assistant (2) | DD210228 DD210227 | 05/10/2021 05/11/2021
|  | Senior Advisor | DD210234 | 05/25/2021
| Washington Headquarters Services | Chief of Staff | DD210229 | 05/19/2021
DEPARTMENT OF EDUCATION | Office of the Secretary | Director of Scheduling | DB210095 | 05/03/2021
| Office of the General Counsel | Senior Counsel | DB210096 | 05/06/2021
| Office for Civil Rights | Senior Counsel | DB210097 | 05/13/2021
| Office of Communications and Outreach | Special Assistant | DB210099 | 05/24/2021
| Office of Career Technical and Adult Education | Special Assistant | DB210101 | 05/24/2021
DEPARTMENT OF ENERGY | Office of the Assistant Secretary for Congressional and Intergovernmental Affairs | Legislative Advisor Special Assistant | DE210137 DE210149 | 05/09/2021 05/19/2021
| Office of the Assistant Secretary for Electricity | Chief of Staff | DE210138 | 05/12/2021
| Office of the Assistant Secretary for Energy Efficiency and Renewable Energy | Special Assistant Deputy Chief of Staff | DE210120 DE210152 | 05/19/2021 05/20/2021
| Office of the Assistant Secretary for Fossil Energy | Special Assistant | DE210107 | 05/19/2021
| Office of the Assistant Secretary for International Affairs | Chief of Staff Special Assistant | DE210148 DE210121 | 05/13/2021 05/19/2021
| Office of Management | Special Assistant for Advance | DE210124 | 05/19/2021
|  | Scheduler | DE210145 | 05/19/2021
| Office of Policy | Special Assistant | DE210139 | 05/20/2021
| Office of Public Affairs | Speechwriter | DE210144 | 05/12/2021
|  | Deputy Director | DE210147 | 05/13/2021
|  | Press Secretary | DE210128 | 05/19/2021
| Office of the Secretary | White House Liaison | DE210101 | 05/19/2021
|  | Special Assistant to the Secretary | DE210111 | 05/19/2021
|  | Deputy White House Liaison | DE210115 | 05/19/2021
| Under Secretary for Science | Special Assistant | DE210129 | 05/19/2021
ENVIRONMENTAL PROTECTION AGENCY | Office of Public Affairs Office of the Associate Administrator for Policy | Public Affairs Specialist Deputy Associate Administrator for Policy | EP210089 EP210090 | 05/16/2021 05/17/2021
FEDERAL MINE SAFETY AND HEALTH REVIEW COMMISSION | Federal Mine Safety and Health Review Commission Office of the Chairman | Confidential Assistant Confidential Assistant | FR210001 FR210002 | 05/18/2021 05/28/2021
GENERAL SERVICES ADMINISTRATION | Office of the Administrator | Senior Advisor to the Administrator (Equity) | GS210033 | 05/14/2021
DEPARTMENT OF HEALTH AND HUMAN SERVICES | Health Resources and Services Administration | Special Assistant | DH210174 | 05/04/2021
| Office of Intergovernmental and External Affairs | Special Assistant | DH210176 | 05/04/2021
| Office of the Assistant Secretary for Legislation | Senior Advisor and Congressional Liaison | DH210177 | 05/04/2021
| Office of the Assistant Secretary for Public Affairs | Director of Speechwriting | DH210175 | 05/06/2021
| Office of the Secretary | Advance Representative (2) | DH210178 | 05/06/2021
|  |  | DH210179 | 05/06/2021
|  | Policy Advisor | DH210182 | 05/28/2021
DEPARTMENT OF HOMELAND SECURITY | Cybersecurity and Infrastructure Security Agency | Special Advisor to the Executive Assistant Director for Infrastructure Security | DM210319 | 05/13/2021
|  | Director of Public Affairs | DM210337 | 05/14/2021
| Office of Legislative Affairs | Director of Legislative Affairs, Oversight | DM210342 | 05/17/2021
| Office of Public Affairs | Social Media Director | DM210323 | 05/04/2021
| Office of Strategy, Policy, and Plans | Special Assistant to the Assistant Secretary | DM210330 | 05/13/2021
|  | Policy Advisor (Counter Terrorism and Threat Prevention)(2) | DM210335 DM210336 | 05/13/2021 05/14/2021
| Office of the General Counsel | Special Assistant to the Chief of Staff | DM210321 | 05/05/2021
| Office of the Secretary | Counselor for Regulations | DM210294 | 05/06/2021
|  | Scheduler to the Secretary | DM210352 | 05/26/2021
|  | Senior Advance Officer | DM210353 | 05/26/2021
|  | Special Assistant to the Secretary | DM210334 | 05/13/2021
|  | Special Projects Coordinator | DM210327 | 05/14/2021
| United States Immigration and Customs Enforcement | Assistant Director of Congressional Relations | DM210351 | 05/28/2021
DEPARTMENT OF HOUSING AND URBAN DEVELOPMENT | Office of Public and Indian Housing | Special Policy Advisor | DU210072 | 05/14/2021
DEPARTMENT OF JUSTICE | Office of National Security Division | Senior Counsel | DJ210133 | 05/06/2021
| Office of Legal Policy | Senior Counsel | DJ210141 | 05/24/2021
| Office of Legislative Affairs | Confidential Assistant | DJ210135 | 05/11/2021
|  | Chief of Staff and Senior Counsel | DJ210136 | 05/13/2021
| Office of Public Affairs | Public Affairs Specialist | DJ210140 | 05/24/2021
| Office of the Associate Attorney General | Chief of Staff | DJ210132 | 05/05/2021
DEPARTMENT OF LABOR | Employment and Training Administration | Special Assistant | DL210087 | 05/19/2021
| Mine Safety and Health Administration | Special Assistant | DL210089 | 05/20/2021
| Office of the Secretary | Special Assistant | DL210091 | 05/19/2021
| Office of Workers Compensation Programs | Special Assistant | DL210086 | 05/24/2021
| Women's Bureau | Chief of Staff | DL210094 | 05/27/2021
NATIONAL AERONAUTICS AND SPACE ADMINISTRATION | Office of Communications | Media Relations Specialist | NN210033 | 05/10/2021
NATIONAL ENDOWMENT FOR THE ARTS | National Endowment for the Arts | Director of Strategic Priorities and Projects | NA210011 | 05/04/2021
OFFICE OF MANAGEMENT AND BUDGET | Office of the Director | Special Assistant (2) | BO210069 BO210068 | 05/04/2021 05/06/2021
| Office of E-government and Information Technology | Senior Advisor for Delivery (United States Digital Service) (2) | BO210070 | 05/13/2021
|  |  | BO210071 | 05/13/2021
OFFICE OF NATIONAL DRUG CONTROL POLICY | Office of Public Affairs | Public Affairs Specialist (Press Secretary) | QQ210009 | 05/20/2021
UNITED STATES INTERNATIONAL DEVELOPMENT FINANCE CORPORATION | Overseas Private Investment Corporation | Special Assistant | PQ210010 | 05/03/2021
SECURITIES AND EXCHANGE COMMISSION | Office of Public Affairs | Writer-Editor Supervisory Public Affairs Specialist | SE210017 SE210019 | 05/19/2021 05/19/2021
SMALL BUSINESS ADMINISTRATION | Office of Communications and Public Liaison | Director of Communications Senior Speechwriter | SB210031 SB210034 | 05/06/2021 05/28/2021
| Office of Congressional and Legislative Affairs | Deputy Associate Administrator (Senate) | SB210035 | 05/28/2021
|  | Deputy Associate Administrator (House) | SB210036 | 05/28/2021
| Office of the Administrator | Director of Scheduling | SB210029 | 05/04/2021
|  | Special Assistant | SB210032 | 05/19/2021
DEPARTMENT OF STATE | Bureau of Arms Control, Verification, And Compliance | Senior Advisor | DS210237 | 05/14/2021
| Bureau of Global Public Affairs | Special Advisor | DS210226 | 05/06/2021
| Bureau of International Organizational Affairs | Deputy Assistant Secretary | DS210235 | 05/06/2021
| Bureau of Legislative Affairs | Legislative Management Officer | DS210233 | 05/11/2021
| Bureau of Population, Refugees and Migration | Senior Advisor (2) | DS210224 DS210227 | 05/04/2021 05/04/2021
| Office of Policy Planning | Special Assistant | DS210221 | 05/04/2021
|  | Senior Advisor | DS210222 | 05/04/2021
|  | Assistant Chief of Protocol (Ceremonials) | DS210218 | 05/04/2021
|  | Deputy Chief of Protocol (2) | DS210219 | 05/04/2021
|  |  | DS210220 | 05/10/2021
| Office of the Counselor | Special Assistant | DS210215 | 05/04/2021
| Office of the Deputy Secretary | Senior Advisor | DS210238 | 05/14/2021
| Office of the Deputy Secretary for Management and Resources | Senior Advisor Staff Assistant | DS210216 DS210232 | 05/04/2021 05/11/2021
| Office of the Secretary | Staff Assistant (2) | DS210230 | 05/07/2021
|  |  | DS210240 | 05/14/2021
| Office of the Under Secretary for Arms Control and International Security Affairs | Senior Advisor | DS210228 | 05/06/2021
| Office of the Under Secretary for Management | Deputy White House Liaison White House Liaison | DS210229 DS210243 | 05/06/2021 05/25/2021
TRADE AND DEVELOPMENT AGENCY | Office of the Director | Chief of Staff | TD210002 | 05/20/2021
DEPARTMENT OF TRANSPORTATION | Office of the Under Secretary of Transportation for Policy | Senior Advisor for Innovation | DT210073 | 05/04/2021
| Office of the Assistant Secretary for Governmental Affairs | Special Assistant for Governmental Affairs | DT210078 | 05/17/2021
| Federal Transit Administration | Associate Administrator for Communications and Legislative Affairs | DT210080 | 05/17/2021
| Office of the Secretary | Special Assistant for Scheduling | DT210081 | 05/17/2021
DEPARTMENT OF THE TREASURY | Office of the Assistant Secretary (Legislative Affairs) | Special Assistant | DY210086 | 05/10/2021
| Office of the Assistant Secretary (Public Affairs) | Digital Strategy Specialist | DY210096 | 05/19/2021
| Secretary of the Treasury | Chief Speech Writer and Senior Advisor | DY210093 | 05/19/2021
|  | Policy Advisor | DY210100 | 05/19/2021
|  | Senior Advisor | DY210092 | 05/19/2021
|  | Special Assistant | DY210097 | 05/19/2021
|  |  | DY210098 | 05/19/2021
|  | Spokesperson | DY210095 | 05/19/2021
| Office of the Under Secretary for Domestic Finance | Senior Advisor | DY210090 | 05/19/2021
DEPARTMENT OF VETERANS AFFAIRS | Office of the Secretary and Deputy | Chief Speechwriter | DV210060 | 05/03/2021
| Office of the Assistant Secretary for Enterprise Integration | Special Assistant | DV210067 | 05/28/2021

The following Schedule C appointing authorities were revoked during May 2021.

Agency name | Organization name | Position title | Request No. | Vacate date
APPALACHIAN REGIONAL COMMISSION | Appalachian Regional Commission | Senior Policy Advisor | AP190002 | 05/03/2021
COMMODITY FUTURES TRADING COMMISSION | Office of Public Affairs | Director | CT190008 | 05/20/2021
DEPARTMENT OF HOUSING AND URBAN DEVELOPMENT | Office of Congressional and Intergovernmental Relations | Deputy Assistant Secretary for Congressional Relations | DU210030 | 05/21/2021
DEPARTMENT OF STATE | Office of the Secretary | Deputy Assistant Secretary | DS210040 | 05/08/2021
|  | Deputy Chief of Protocol | DS210131 | 05/08/2021
|  | Deputy White House Liaison | DS210070 | 05/08/2021
|  | Senior Advisor | DS210097 | 05/08/2021
|  | Senior Advisor (Delivery) | DS210111 | 05/08/2021
|  | Senior Advisor (Foreign Assistance) | DS210119 | 05/08/2021
|  | Senior Advisor (Migration Policy) | DS210121 | 05/08/2021
|  | Senior Advisor and Chief Speechwriter | DS210092 | 05/08/2021
|  | Special Assistant (2) | DS210078 | 05/08/2021
|  |  | DS210060 | 05/08/2021
OFFICE OF MANAGEMENT AND BUDGET | Office of E-Government and Information Technology | Senior Advisor for Delivery (United States Digital Service) (2) | BO210034 BO210039 | 05/22/2021 05/22/2021
OFFICE OF THE SECRETARY OF DEFENSE | Office of the Assistant to the Secretary of Defense (Public Affairs) | Research Assistant | DD210199 | 05/22/2021
SECURITIES AND EXCHANGE COMMISSION | Office of the Chairman | Information Technology Specialist Confidential Assistant | SE130006 SE130004 | 05/28/2021 05/30/2021
| Office of Public Affairs | Deputy Director, Office of Public Affairs | SE190007 | 05/29/2021
| Office of the Chief Operating Officer | Confidential Assistant | SE130001 | 05/28/2021
UNITED STATES INTERNATIONAL TRADE COMMISSION | Office of Commissioner Schmidtlein | Staff Assistant (Legal) | TC190009 | 05/17/2021

(Authority: 5 U.S.C. 3301 and 3302; E.O. 10577, 3 CFR, 1954-1958 Comp., p. 218.)

Office of Personnel Management.
Alexys Stanley,
Regulatory Affairs Analyst.

[FR Doc. 2022-04618 Filed 3-3-22; 8:45 am]

BILLING CODE 6325-39-P